DEPARTMENT OF VETERANS AFFAIRS

Advisory Committee on Minority Veterans, Notice of Meeting

The Department of Veterans Affairs (VA) gives notice under the Public Law 92-463 (Federal Advisory Committee Act) that a meeting of the Advisory Committee on Minority Veterans will be held from Tuesday, May 13, 2003, through Thursday, May 15, 2003, from 8:30 a.m. until 5 p.m. each day, at the Courtyard Marriott, 1725 West Filmore Avenue, Harlingen, Texas.

The purpose of the Committee is to advise the Secretary on the administration of VA benefits and services to minority veterans, to assess the needs of minority veterans and to evaluate whether VA compensation, medical and rehabilitation services, outreach, and other programs are meeting those needs. The Committee will make recommendations to the Secretary regarding such activities.

On May 12, the Committee will hold panel discussions with key staff members from VA Heart of Texas Health Care Network (VISN 17), San Antonio VA Medical Center and Houston Regional Office on services and benefits delivery challenges and concerns for the south Texas veterans. During the afternoon, the Committee will hold panel discussions with various Veteran Service Organizations and Congressman Solomon Ortiz's staff on their concerns and observations of south Texas veterans' needs.

On May 13, the Committee will hold town hall meetings with veterans from the south Texas area in Brownsville as well as tour the Brownsville Community Based Outpatient Clinic. Committee members will also tour the McAllen Community Based Outpatient Clinic.

On May 14, the Committee will tour the University of Harlingen Medical Center and receive a briefing on the medical center's capabilities. In the afternoon, the Committee will begin drafting the 2003 annual report documenting their findings during the current trip.

These sessions will be open to the public. The Committee will accept written comments from interested parties on issues outlined in the meeting agenda, as well as other issues affecting minority veterans. Such comments should be referred to the Committee at the following address: Advisory Committee on Minority Veterans, Center for Minority Veterans (00M), U.S. Department of Veterans Affairs, 810 Vermont Avenue, NW., Washington, DC 29420.

For additional information about the meeting, you may call Ms. Elizabeth Olmo at (202) 273-6708.

Dated: April 18, 2003.
By Direction of the Secretary.
E. Philip Riggin,
Committee Management Officer.

[FR Doc. 03-10122 Filed 4-23-03; 8:45 am]

BILLING CODE 8320-01-M